COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and service to the Procurement List that will be furnished by nonprofit agencies employing persons who are blind or have other severe disabilities, and to delete products previously furnished by such agencies.

DATES: Comments must be received on or before: 11/6/2016.

ADDRESSES: Committee for Purchase From People Who Are Blind or Severely Disabled, 1401 S. Clark Street, Suite 715, Arlington, Virginia 22202-4149.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to furnish the products and service listed below from the nonprofit agencies employing persons who are blind or have other severe disabilities.

The following products and service are proposed for addition to the Procurement List for provision by the nonprofit agencies listed:

Products

NSN(s)—Product Name(s):

6530-00-NIB-0186—Cap, Pharmaceutical bottle, 38/400, White, CRC, Foil liner, VA Logo

6530-00-NIB-0268—Cap, Pharmaceutical bottle, 38/400, White, CRC, Foam liner, VA Logo

Mandatory for: Department of Veteran's Affairs

Mandatory Source(s) of Supply: Alphapointe, CA

Contracting Activity: NCO15 CMOP Acquisitions Division

Distribution: C-List

Service

Service Type: Custodial Service

Service is Mandatory for: Architect of the Capitol, Capitol Power Plant & Coal Yard, 25 E Street, SE & 42 I Street, Washington, DC

Mandatory Source(s) of Supply: Anchor Mental Health Association, Washington, DC

Contracting Activity: Architect of the Capitol, U.S. Capitol Building, Washington, DC

The Commission is publishing corrections to its Notice published in the Federal Register on Friday, September 30, 2016 for Service Type: Document Control and Conversion Support Service as follows. The corrections are changing the Mandatory Source(s) of Supply to Linden Resources, Inc., Arlington, VA and the Mandatory for to Federal Communications Commission, FCC HQ, Washington, DC, but do not change the date published for public comments to be submitted to the U.S. AbilityOne Commission.

Service Type: Document Control and Conversion Support Service

Mandatory for: Federal Communications Commission, FCC HQ, Washington, DC

Mandatory Source(s) of Supply: Linden Resources, Inc., Arlington, VA

Contracting Activity: U.S. Federal Communications Commission, Office of Managing Director, Enterprise Acquisition Center, Washington, DC

Deletions

The following products are proposed for deletion from the Procurement List:

Products

NSN(s)—Product Name(s):

1670-01-062-6303—Line, Multi-Loop, low altitude parachute extraction system, 12′

1670-01-062-6304—Line, Multi-Loop, low altitude parachute extraction system, 9′

1670-01-062-6305—Line, Multi-Loop, low altitude parachute extraction system, 9′

1670-01-062-6306—Line, Multi-Loop, low altitude parachute extraction system, 3′

1670-01-062-6308—Line, Multi-Loop, low altitude parachute extraction system, 16′

1670-01-062-6312—Line, Multi-Loop, low altitude parachute extraction system, 120′

1670-01-062-6313—Line, Multi-Loop, low altitude parachute extraction system, 60′

1670-01-063-7760—Line, Multi-Loop, low altitude parachute extraction system, 11′

1670-01-064-4451—Line, Multi-Loop, low altitude parachute extraction system, 36′

1670-01-064-4452—Line, Multi-Loop, low altitude parachute extraction system, 60′

1670-01-107-7652—Line, Multi-Loop, low altitude parachute extraction system, 160′

Mandatory Source(s) of Supply: UNKNOWN

Contracting Activity: Defense Logistics Agency Aviation

NSN(s)—Product Name(s):

1670-01-062-6301—Line, Multi-Loop, low altitude parachute extraction system, 3′

1670-01-062-6302—Line, Multi-Loop, low altitude parachute extraction system, 20′

1670-01-062-6309—Line, Multi-Loop, low altitude parachute extraction system, 28′

1670-01-064-4453—Line, Multi-Loop, low altitude parachute extraction system, 20′

1670-01-064-4454—Line, Multi-Loop, low altitude parachute extraction system, 60′

1670-01-107-7651—Line, Multi-Loop, low altitude parachute extraction system, 140′

Mandatory Source(s) of Supply: UNKNOWN

Contracting Activity: Army Contracting Command—Aberdeen Proving Ground, Natick Contracting Division

NSN(s)—Product Name(s): 7920-00-297-1511—Brush, Scrub

Mandatory Source(s) of Supply: Industries for the Blind, Inc., West Allis, WI

Contracting Activity: General Services Administration, Fort Worth, TX

NSN(s)—Product Name(s): 3990-01-415-6951—Pallet, Runner

Mandatory Source(s) of Supply: Tarrant County Association for the Blind, Fort Worth, TX

Contracting Activity: General Services Administration, Fort Worth, TX

NSN(s)—Product Name(s): 7520-00-543-7149—Pen, Ballpoint, with Chain, Blue, Medium Pt

Mandatory Source(s) of Supply: Industries of the Blind, Inc., Greensboro, NC; Industries for the Blind, Inc., West Allis, WI

Contracting Activity: General Services Administration, New York, NY

NSN(s)—Product Name(s):

8520-00-NIB-0110—PURELL/SKILCRAFT Instant Hand Sanitizer Value Pack

8520-00-NIB-0111—PURELL/SKILCRAFT 1200mL Anitbacterial Hand Wash

8520-00-NIB-0120—Purell-Skilcraft, Instant Hand Sanitizer—foam

Mandatory Source(s) of Supply: Travis Association for the Blind, Austin, TX

Contracting Activity: Department of Veterans Affairs

NSN(s)—Product Name(s): 6532-00-122-0468—Cap, Operating, Surgical, Blue or Green

Mandatory Source(s) of Supply: UNKNOWN

Contracting Activity: Strategic Acquisition Center, Fredericksburg, VA

NSN(s)—Product Name(s):

8455-00-985-7336—Scarf, Branch of Service, Aviation Units, USAF and USA, Blue

Mandatory Source(s) of Supply: UNKNOWN

Contracting Activity: Defense Logistics Agency Troop Support

Patricia Briscoe,
Deputy Director, Business Operations (Pricing and Information Management).

[FR Doc. 2016-24363 Filed 10-6-16; 8:45 am]

BILLING CODE 6353-01-P